NATIONAL AERONAUTICS AND SPACE ADMINISTRATION

[Notice (05-125)]

National Environmental Policy Act; New Horizons Mission

AGENCY: National Aeronautics and Space Administration (NASA).

ACTION: Notice of availability of final environmental impact statement (FEIS) for implementation of the New Horizons mission.

SUMMARY: Pursuant to the National Environmental Policy Act of 1969, as amended (NEPA) (42 U.S.C. 4321 et seq.), the Council on Environmental Quality Regulations for Implementing the Procedural Provisions of NEPA (40 CFR parts 1500-1508), and NASA policy and procedures (14 CFR part 1216 subpart 1216.3), NASA has prepared and issued a FEIS for the New Horizons mission. The FEIS addresses the potential environmental impacts associated with continuing the preparations for and implementing the mission. The purpose of the Proposed Action, that is NASA's Preferred Alternative, is to explore Pluto, its moon Charon, and possibly one or more objects within the Kuiper Belt.

The New Horizons mission is planned for launch in January-February 2006 from Cape Canaveral Air Force Station (CCAFS), Florida, on an expendable launch vehicle. With a launch in mid January 2006, the New Horizons spacecraft would arrive at Pluto as early as 2015 and would conduct scientific investigations of Pluto and its moon, Charon, as it flies past these bodies. The spacecraft may then continue on an extended mission into the Kuiper Belt, where it would investigate one or more of the objects found there. The spacecraft would require electrical power for normal spacecraft operations and to operate the science instruments. One radioisotope thermoelectric generator (RTG) containing plutonium dioxide would be used for this purpose. A backup launch opportunity could occur in February 2007 with an arrival at Pluto in 2019 or 2020 depending upon the exact date of launch.

DATES: NASA will take no final action on the proposed New Horizons mission on or before September 2, 2005, or 30 days from the date of publication in the Federal Register of the U.S. Environmental Protection Agency (EPA) notice of availability of the New Horizons FEIS, whichever is later.

ADDRESSES: The FEIS may be reviewed at the following locations:

(a) NASA Headquarters, Library, Room 1J20, 300 E Street, SW., Washington, DC 20546-0001;

(b) The Johns Hopkins University Applied Physics Laboratory, Gibson Library, 11100 Johns Hopkins Road, Laurel, MD 20723-6099. Hard copies of the FEIS may be reviewed at other NASA Centers (see SUPPLEMENTARY INFORMATION below).

Limited hard copies of the FEIS are available for distribution by contacting Kurt Lindstrom at the address, telephone number, or electronic mail address indicated below. The FEIS is also available in Acrobat® format at http://spacescience.nasa.gov/admin/pubs/plutoeis/index.htm. NASA's Record of Decision (ROD) will also be placed on that Web site when it is issued. Anyone who desires a hard copy of NASA's ROD when it is issued should contact Mr. Lindstrom.

FOR FURTHER INFORMATION CONTACT: Kurt Lindstrom, Mission and Systems Management Division, Science Mission Directorate, NASA Headquarters, Washington, DC 20546-0001, telephone 202-358-1588, or electronic mail osspluto@hq.nasa.gov.

SUPPLEMENTARY INFORMATION: The purpose of the action addressed in this FEIS is to further our knowledge of Pluto, the outermost known planet of our solar system, and its moon, Charon, and, if possible, the Kuiper Belt. The goal of the New Horizons mission would be to measure the fundamental physical and chemical properties of Pluto and Charon. Specifically, the New Horizons mission would acquire data to address the following primary scientific objectives.

—Characterize the global geology and morphology of Pluto and Charon.

—Map the surface compositions of Pluto and Charon.

—Characterize the neutral (uncharged) atmosphere of Pluto and its rate of escape.

After the Pluto-Charon flyby and data playback is complete, the spacecraft may continue on an extended mission to encounter one or more objects within the Kuiper Belt. The remote science instrumentation planned for Pluto and Charon could also be used for investigations of the Kuiper Belt Objects (KBO).

Pluto is the only major body within our solar system that has not yet been visited by spacecraft. Many of the questions posed about Pluto and Charon can only be addressed by a spacecraft mission that brings advanced instruments close to the two bodies. Scientific knowledge of all other planets and their moons, and thus understanding of the nature of the solar system, has been increased enormously through visits by spacecraft.

The science to be performed at Pluto and Charon is time-critical because of long-term seasonal changes in the surfaces and atmospheres of both bodies. The objectives of surface mapping and surface composition mapping would be significantly compromised as Pluto and Charon recede from the Sun and their polar regions become increasingly hidden in shadow. Furthermore, as Pluto recedes from the Sun, substantial decline, if not complete collapse, of its atmosphere is widely anticipated.

The recent discovery of many objects beyond Neptune in the Kuiper Belt has opened another dimension for this mission of exploration. KBOs, in stable and well-defined orbits that have never taken them close to the Sun, are likely to be remnants of solar system formation and may hold clues to the birth of the planets. Knowledge gained from close examination of objects in the Kuiper Belt would be of great value in developing theoretical models of the evolution and destiny of the solar system.

The Proposed Action consists of continuing preparations for and implementing the New Horizons mission. The New Horizons spacecraft would be launched on an Atlas V 551 from CCAFS in January-February 2006. This launch opportunity represents the best opportunity for achieving the time-critical science objectives at Pluto and Charon. A backup launch opportunity could occur in February 2007 with arrival at Pluto in 2019 or 2020 depending upon the exact date of launch. Accordingly, the only alternative that was evaluated is the No Action alternative.

For the New Horizons missions, the potentially affected environment for a normal launch includes the area at and in the vicinity of the launch site, CCAFS in Florida. The environmental impacts of a normal launch of the mission for the Proposed Action would be associated principally with the exhaust emissions from the Atlas V launch vehicle. These effects would include: (1) Short-term impacts on air quality within the exhaust cloud and near the launch pad, and (2) the potential for acidic deposition on the vegetation and surface water bodies at and near the launch complex, particularly if rain occurs shortly after launch.

Potential launch accidents could result in the release of some of the radioactive material on board the spacecraft. The spacecraft would have one RTG that uses plutonium dioxide to provide electrical power. The radioisotope inventory of the RTG would total up to approximately 124,000 curies of plutonium.

The U.S. Department of Energy (DOE), in cooperation with NASA, has performed a risk assessment of potential accidents for the New Horizons mission. This assessment used a methodology refined through applications to the Galileo, Ulysses, Cassini, and Mars Exploration Rover missions, and incorporates results of safety tests on the RTG and an evaluation of the January 17, 1997, Delta II accident at CCAFS. DOE's risk assessment for this mission indicates that in the event of a launch accident the expected impacts of released radioactive material at and in the vicinity of the launch area, and on a global basis, would be small.

The FEIS may be examined at the following NASA locations by contacting the pertinent Freedom of Information Act Office:

(a) NASA, Ames Research Center, Moffett Field, CA 94035 (650-604-1181).

(b) NASA, Dryden Flight Research Center, PO Box 273, Edwards, CA 93523 (661-276-2704).

(c) NASA, Glenn Research Center at Lewis Field, 21000 Brookpark Road, Cleveland, OH 44135 (216-433-2755).

(d) NASA, Goddard Space Flight Center, Greenbelt Road, Greenbelt, MD 20771 (301-286-4721).

(e) NASA, Jet Propulsion Laboratory, Visitors Lobby, Building 249, 4800 Oak Grove Drive, Pasadena, CA 91109 (818-354-5179).

(f) NASA, Johnson Space Center, Houston, TX 77058 (281-483-8612).

(g) NASA, Kennedy Space Center, FL 32899 (321-867-9280).

(h) NASA, Langley Research Center, Hampton, VA 23681 (757-864-2497).

(i) NASA, Marshall Space Flight Center, Huntsville, AL 35812 (256-544-1837).

(j) NASA, Stennis Space Center, MS 39529 (228-688-2118).

NASA published a Notice of Availability (NOA) of the Draft EIS (DEIS) for the New Horizons mission in the Federal Register on February 25, 2005 (70 FR 9387), and made the DEIS available in electronic format on its Web site. The EPA published its NOA in the Federal Register on February 25, 2005 (70 FR 9306). In addition, NASA published its NOA in local newspapers in the Cape Canaveral, Florida regional area, and held public meetings in Cocoa, Florida on March 29 and 30, 2005, during which attendees were invited to present both oral and written comments on the DEIS. No comments relevant to the DEIS were presented at either meeting. NASA received 967 written comment submissions, both hardcopy and electronic, during the comment period ending April 11, 2005. The comments are addressed in the FEIS.

Jeffrey E. Sutton,
Assistant Administrator for Infrastructure and Administration.

[FR Doc. 05-15250 Filed 8-2-05; 8:45 am]

BILLING CODE 7510-13-P